DEPARTMENT OF TRANSPORTATION

Federal Aviation Administration

14 CFR Part 39

[Docket No. 2000-NM-179-AD; Amendment 39-12368; AD 2001-15-33]

RIN 2120-AA64

Airworthiness Directives; BAe Systems (Operations) Limited Model BAe 146 and Model Avro 146-RJ Series Airplanes

AGENCY: Federal Aviation Administration, DOT.

ACTION: Final rule.

SUMMARY: This amendment supersedes an existing airworthiness directive (AD), applicable to all BAe Systems (Operations) Limited Model BAe 146 and Model Avro 146-RJ series airplanes, that currently requires a one-time inspection for “drill marks” and corrosion on the underside of the wing top skin, and corrective actions, if necessary. For certain airplanes, this amendment requires repetitive inspections for “drill marks” or corrosion on the underside of the wing top skin, and corrective actions, if necessary, until all corrective actions and protective treatment actions are done. For certain airplanes, this amendment adds a requirement for one-time detailed and borescopic inspections of the fuel tank, pump, and stringers for paint debris and inadequacy of the existing protective treatment coating; and corrective actions, if necessary. This amendment is prompted by issuance of mandatory continuing airworthiness information by a foreign civil airworthiness authority. The actions specified by this AD are intended to prevent corrosion from developing on the underside of the top skin of the center wing, which could result in reduced structural integrity of the airplane.

DATES: Effective September 10, 2001.

The incorporation by reference of certain publications listed in the regulations is approved by the Director of the Federal Register as of September 10, 2001.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 98-16-24, amendment 39-10701 (63 FR 42220, August 7, 1998), which is applicable to all British Aerospace Model BAe 146 and certain Model Avro 146-RJ series airplanes, was published as a supplemental Notice of Proposed Rulemaking (NPRM) in the Federal Register on February 21, 2001 (66 FR 10976). The action proposed to require repetitive inspections for “drill marks” and corrosion on the underside of the wing top skin, and corrective actions, if necessary, until all corrective actions and protective treatment actions are done.

Comments

Interested persons have been afforded an opportunity to participate in the making of this amendment. No comments were submitted in response to the supplemental NPRM or the FAA's determination of the cost to the public.

Conclusion

The FAA has determined that air safety and the public interest require the adoption of the rule as proposed by the supplemental NPRM.

Cost Impact

There are approximately 39 Model BAe 146 and Model Avro 146-RJ series airplanes of U.S. registry that will be affected by this AD.

The repetitive inspection for “drill marks” and corrosion that is required by this AD will take approximately 10 work hours per airplane (including access and close) to accomplish, at an average labor rate of $60 per work hour. Based on these figures, the cost impact of this repetitive inspection on U.S. operators is estimated to be $600 per airplane, per inspection cycle.

The one-time inspection for paint debris and inadequacy of the existing protective treatment coating that is required by this AD will take approximately 8 work hours per airplane (including access and close) to accomplish, at an average labor rate of $60 per work hour. Based on these figures, the cost impact of this one-time inspection on U.S. operators is estimated to be $480 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as planning time or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10701 (63 FR 42220, August 7, 1998), and by adding a new airworthiness directive (AD), amendment 39-12368, to read as follows:

2001-15-33 BAe Systems (Operations) Limited (Formerly British Aerospace Regional Aircraft): Amendment 39-12368. Docket 2000-NM-179-AD. Supersedes AD 98-16-24, Amendment 39-10701.

Applicability: All Model BAe 146 series airplanes and Model Avro 146-RJ airplanes, as listed in British Aerospace (Operations) Limited Inspection Service Bulletin ISB.57-57, dated February 25, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent corrosion from developing on the underside of the top skin of the center wing, which could result in reduced structural integrity of the airplane, accomplish the following:

Intrascopic Inspection: “Drill Marks” and Corrosion

(a) For airplanes on which protective treatment coating has NOT been applied per British Aerospace Service Bulletin SB.57-50 (reference Repair Instruction Leaflet (R.I.L.) HC573H9014), and for airplanes on which the inspection required by AD 98-16-24, amendment 39-10701, has not been accomplished as of the effective date of this AD: Within 6 months after the effective date of this AD, perform an intrascopic inspection for “drill marks” and corrosion on the underside of the wing top skin, per British Aerospace (Operations) Limited Inspection Service Bulletin ISB.57-57, dated February 25, 2000.

(1) If no “drill mark” or corrosion is detected, repeat the intrascopic inspection required by paragraph (a) of this AD thereafter at intervals not to exceed 4 years, until the terminating action required by paragraph (c) of this AD is done.

(2) If any corrosion is detected, prior to further flight, repair per a method approved by either the Manager, International Branch, ANM-116, FAA, Transport Directorate; or the Civil Aviation Authority (CAA) of the United Kingdom (or its delegated agent).

(3) If any “drill mark” is detected, or if any corrosion is detected and repaired, prior to further flight, do the terminating action required by paragraph (c) of this AD.

Note 2: Accomplishment of an intrascopic inspection for “drill marks” and corrosion prior to the effective date of this AD, per British Aerospace Service Bulletin SB.57-50, Revision 2, dated March 20, 1997, is acceptable for compliance with the inspection requirements of paragraph (a) of this AD.

Detailed Visual and Borescopic Inspections: Paint Debris and Inadequate Protective Treatment Coating

(b) For airplanes on which protective treatment coating HAS been applied prior to the effective date of this AD per British Aerospace (Operations) Limited Service Bulletin SB.57-50 (reference R.I.L. HC573H9014): At the next scheduled maintenance inspection (“C-check”) or within 6 months after the effective date of this AD, whichever occurs first, do one-time detailed visual and borescopic inspections of the fuel tank, pump, and stringers to detect discrepancies (including paint debris and inadequacy of existing protective treatment coating); per Paragraph D. of the Accomplishment Instructions of British Aerospace Inspection Service Bulletin ISB. 57-57, dated February 25, 2000.

(1) If no discrepancy is found, no further action is required by this AD.

(2) If any discrepancy is found, prior to further flight, do all applicable corrective actions (including removal of paint debris and testing of paint adhesion), and the terminating action required by paragraph (c) of this AD, per British Aerospace (Operations) Limited Inspection Service Bulletin ISB. 57-57, dated February 25, 2000.

Note 3: Paragraph B. of the Accomplishment Instructions of British Aerospace (Operations) Limited Inspection Service Bulletin ISB.57-57, dated February 25, 2000, references R.I.L. HC573H9024 as an additional source of service information for accomplishing the intrascopic inspection. Paragraph C. of the Accomplishment Instructions of the service bulletin references R.I.L. HC573H9032 as an additional source of service information for applying the protective treatment coating.

Note 4: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Terminating Action

(c) Application of the protective treatment coating, per Paragraph C. of the Accomplishment Instructions of British Aerospace (Operations) Limited Inspection Service Bulletin ISB. 57-57, dated February 25, 2000, constitutes terminating action for the requirements of this AD.

Alternative Methods of Compliance

(d) An alternative method of compliance or adjustment of the compliance time that provides an acceptable level of safety may be used if approved by the Manager, International Branch, ANM-116. Operators shall submit their requests through an appropriate FAA Principal Maintenance Inspector, who may add comments and then send it to the Manager, International Branch, ANM-116.

Note 5: Information concerning the existence of approved alternative methods of compliance with this AD, if any, may be obtained from the International Branch, ANM-116.

Special Flight Permits

(e) Special flight permits may be issued in accordance with 21.197 and 21.199 of the Federal Aviation Regulations (14 CFR 21.197 and 21.199) to operate the airplane to a location where the requirements of this AD can be accomplished.

Incorporation by Reference

(f) Except as provided by paragraph (a)(2) of this AD, the actions shall be done in accordance with British Aerospace (Operations) Limited Inspection Service Bulletin ISB.57-57, dated February 25, 2000. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Effective Date

(g) This amendment becomes effective on September 10, 2001.

Issued in Renton, Washington, on July 25, 2001.
Vi L. Lipski,
Manager, Transport Airplane Directorate, Aircraft Certification Service.

[FR Doc. 01-19254 Filed 8-3-01; 8:45 am]

BILLING CODE 4910-13-P